DEPARTMENT OF JUSTICE

Drug Enforcement Administration

Manufacturer of Controlled Substances; Notice of Application; S&B Pharma, Inc.

Pursuant to § 1301.33(a), Title 21 of the Code of Federal Regulations (CFR), this is notice that on April 4, 2012, S&B Pharma Inc., 405 South Motor Avenue, Azusa, California 91702-3232, made application to the Drug Enforcement Administration (DEA) to be registered as a bulk manufacturer of the following basic classes of controlled substances:

Drug | Schedule
Gamma Hydroxybutyric Acid (2010) | I
Tetrahydrocannabinols (7370) | I
Methamphetamine (1105) | II
Pentobarbital (2270) | II
Nabilone (7379) | II

The company plans to manufacture bulk controlled substances for use in product development and for distribution to its customers.

Any other such applicant, and any person who is presently registered with DEA to manufacture such substances, may file comments or objections to the issuance of the proposed registration pursuant to 21 CFR 1301.33(a).

Any such written comments or objections should be addressed, in quintuplicate, to the Drug Enforcement Administration, Office of Diversion Control, Federal Register Representative (ODL), 8701 Morrissette Drive, Springfield, Virginia 22152; and must be filed no later than August 7, 2012.

Dated: May 31, 2012.
Joseph T. Rannazzisi,
Deputy Assistant Administrator, Office of Diversion Control, Drug Enforcement Administration.

[FR Doc. 2012-13918 Filed 6-7-12; 8:45 am]

BILLING CODE 4410-09-P